COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agency.

Comments Must be Received on or Before: 10/30/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entity of the Federal Government identified in this notice will be required to procure the service listed below from the nonprofit agency employing persons who are blind or have other severe disabilities.

The following service is proposed for addition to the Procurement List for production by the nonprofit agency listed:

Service

Service Type: Document Control and Conversion Support Service

Mandatory for: U.S. Geological Survey, 4611 Research Park Circle, Suites D and E, Las Cruces, NM

Mandatory Source(s) of Supply: Tresco, Inc., Las Cruces, NM

Contracting Activity: U.S. Federal Communications Commission, Office of Managing Director, Enterprise Acquisition Center, Washington, DC

Deletions

The following products are proposed for deletion from the Procurement List:

Products

NSN(s)—Product Name(s):

1670-01-468-9178—Line, Multi-Loop, low altitude parachute extraction system, 140′

1670-01-062-6310—Line, Multi-Loop, low altitude parachute extraction system, 11′

1670-01-062-6307—Line, Multi-Loop, low altitude parachute extraction system, 12′

1670-01-062-6311—Line, Multi-Loop, low altitude parachute extraction system, 120′

1670-01-063-7761—Line, Multi-Loop, low altitude parachute extraction system, 16′

Contracting Activity: Defense Logistics Agency Aviation

Barry S. Lineback,
Director, Business Operations.

[FR Doc. 2016-23637 Filed 9-29-16; 8:45 am]

BILLING CODE 6353-01-P